DEPARTMENT OF AGRICULTURE

Rural Business-Cooperative Service

[Docket #: RBS-22-CO-OP-0032]

Notice of Funding Opportunity for the Socially Disadvantaged Groups Grant for Fiscal Year 2023

AGENCY: Rural Business-Cooperative Service, USDA.

ACTION: Notice.

SUMMARY: This notice announces that the Rural Business-Cooperative Service (RBCS, Agency), a Rural Development (RD) agency of the United States Department of Agriculture (USDA), invites applications for grants under the Socially Disadvantaged Groups Grant (SDGG) program for Fiscal Year (FY) 2023. This notice is being issued to allow applicants sufficient time to leverage financing, prepare and submit their applications, and give the Agency time to process applications within FY 2023. A total of $3,000,000 in grant funding will be available for FY 2023. Successful applications will be selected by the Agency for funding and subsequently awarded to the extent that funding may ultimately be made available through appropriations. All applicants are responsible for any expenses incurred in developing and submitting their applications.

DATES: Complete applications for grants must be submitted electronically by 4:30 p.m. local time on May 16, 2023, through https://www.grants.gov to be eligible for grant funding. Applications received after the deadline are not eligible for funding under this notice and will not be evaluated. Applicants are advised to not wait until the application deadline date to begin the application process through Grants.gov.

ADDRESSES: Applicants are encouraged to contact the USDA RD State Office well in advance of the application deadline to discuss the project and ask any questions about the application process. Contact information for USDA RD State Offices can be found at https://www.rd.usda.gov/contact-us/state-offices.

Program guidance as well as application templates may be obtained at https://www.rd.usda.gov/programs-services/socially-disadvantaged-groups-grant or by contacting the USDA RD State Office. To submit an electronic application, follow the instructions for the SDGG funding announcement located at https://www.grants.gov. Applicants are strongly encouraged to file applications early to allow sufficient time to manage any technical issues.

FOR FURTHER INFORMATION CONTACT: Arti Kshirsagar at arti.kshirsagar@usda.gov, Loan & Grant Analyst, Program Management Division, RBCS, USDA, 1400 Independence Avenue SW, Mail Stop 3226, Washington, DC 20250-3226 or call (202) 720-1400. Persons with disabilities that require alternative means for communication should contact the USDA Target Center at (202) 720-2600 (voice); or the 711 Relay Service.

SUPPLEMENTARY INFORMATION:

Overview

Federal Awarding Agency Name: Rural Business-Cooperative Service.

Funding Opportunity Title: Socially Disadvantaged Groups Grant.

Announcement Type: Notice of Funding Opportunity (NOFO).

Funding Opportunity Number: RBCS-SDGG-2023.

Assistance Listing Number: 10.871.

Dates: Complete applications for grants must be submitted electronically no later than 4:30 p.m. local time on May 16, 2023, through https://www.grants.gov to be eligible for grant funding. Applications received after the deadline are not eligible for funding under this notice and will not be evaluated.

Rural Development Key Priorities. The Agency encourages applicants to consider projects that will advance the following key priorities (more details available at https://www.rd.usda.gov/priority-points):

• Assisting rural communities recover economically through better market opportunities and through improved infrastructure;

• Ensuring all rural residents have equitable access to Rural Development (RD) programs and benefits from RD funded projects; and

• Reducing climate pollution and increasing resilience to the impacts of climate change through economic support to rural communities.

A. Program Description

1. Purpose of the Program. The primary objective of the SDGG program is to provide technical assistance to socially disadvantaged groups through cooperatives and Cooperative Development Centers. Grants must be used to provide technical assistance to socially disadvantaged groups in rural areas. Technical assistance includes feasibility studies, business plans, strategic planning, and leadership training. Eligible applicants are cooperative development centers, individual cooperatives, or groups of cooperatives (i) that serve socially disadvantaged groups and (ii) of which a majority of the board of directors or governing board is comprised of individuals who are members of socially disadvantaged groups.

2. Statutory and Regulatory Authority. The SDGG program is authorized by the Consolidated Farm and Rural Development Act (7 U.S.C. 1932(e)(11)).

Section 736 of the Consolidated Appropriations Act, 2023, Public Law 117-328 (the “2023 Appropriations Act”), designates funding for projects in persistent poverty counties. Persistent poverty counties as defined in Section 736 is “any county that has had 20 percent or more of its population living in poverty over the past 30 years, as measured by the 1990 and 2000 decennial censuses, and 2007-2011 American Community Survey 5-year average, or any territory or possession of the United States”. Another provision in Section 736 expands the eligible population in persistent poverty counties to include any county seat of such a persistent poverty county that has a population that does not exceed the authorized population limit by more than 10 percent. This provision expands the current 50,000 population limit to 55,000 for county seats located in persistent poverty counties. Therefore, applicants and/or beneficiaries of technical assistance services located in persistent poverty county seats with populations up to 55,000 (per the 2010 Census) are eligible.

3. Definitions. The definitions applicable to this notice are as follows:

Agency—RBCS, an agency of the USDA RD or a successor agency.

Conflict of interest—A situation in which a person or entity has competing personal, professional, or financial interests that make it difficult for the person or business to act impartially. Federal procurement standards prohibit transactions that involve a real or apparent conflict of interest for owners, employees, officers, agents, or their immediate family members having a financial or other interest in the outcome of the project or that restrict open and free competition for unrestrained trade. Specifically, project funds may not be used for services or goods going to, or coming from, a person or entity with a real or apparent conflict of interest, including, but not limited to, owner(s) and their immediate family members. Examples of conflicts of interest include using grant funds to pay a member of the applicant's board of directors to provide proposed technical assistance to socially disadvantaged groups, paying a cooperative member to provide proposed technical assistance to other members of the same cooperative, and paying an immediate family member of the applicant to provide proposed technical assistance to socially disadvantaged groups.

Cooperative—A business or organization that is owned and operated for the benefit of its members, with returns of residual earnings paid to such members based on patronage. Eligible cooperatives for the SDGG program are those where a majority of the board of directors or governing board are comprised of individuals who are members of socially disadvantaged groups.

Cooperative development center—A nonprofit corporation or institution of higher education operated by the grantee for cooperative or business development. An eligible cooperative development center for the SDGG program is one where a majority of the board of directors or governing board are comprised of individuals who are members of socially disadvantaged groups. It may or may not be an independent legal entity separate from the grantee.

Feasibility study—An analysis of the economic, market, technical, financial, and management feasibility of a proposed project.

Group of cooperatives—A group of cooperatives whose primary focus is to provide assistance to socially disadvantaged groups; each cooperative must meet the eligibility requirements set forth in the definition of “cooperative” herein. One of the cooperatives must be designated as the lead entity and have legal authority to contract with the federal government.

Immediate family(ies)—A group of individuals who live in the same household or who are closely related by blood, marriage, or adoption, such as a spouse, domestic partner, parent, child, sibling, aunt, uncle, grandparent, grandchild, niece, nephew, or first cousin.

Operating cost—The day-to-day expenses of running a business; for example: utilities, rent on the office space a business occupies, salaries, depreciation, marketing and advertising, and other basic overhead items.

Participant support costs—Direct costs for items such as stipends or subsistence allowances, travel allowances, and registration fees paid to or on behalf of participants or trainees (but not employees) in connection with conferences or training projects.

Project—Any activities to be funded by the SDGG.

Rural and rural area—Any area of a state other than (a) a city or town that has a population of more than 50,000 inhabitants, according to the latest decennial census of the United States and (b) any urbanized area contiguous and adjacent to a city or town described in clause (a), and urbanized areas that are rural in character as defined by 7 U.S.C. 1991(a)(13)(D). For the purposes of this definition, cities and towns are incorporated population centers with definite boundaries, local self-government, and legal powers set forth in a charter granted by the state. Notwithstanding any other provision of this paragraph, within the areas of the County of Honolulu, Hawaii, and the Commonwealth of Puerto Rico, the Secretary may designate any part of the areas as a rural area if the Secretary determines that the part is not urban in character, other than any area included in the Honolulu Census Designated Place or the San Juan Census Designated Place.

Rural Development (RD)—A mission area within USDA consisting of the Office of Under Secretary for RD, RBCS, Rural Housing Service (RHS), and Rural Utilities Service (RUS) and any successors.

Socially disadvantaged group—A group whose members have been subjected to racial, ethnic, or gender prejudice because of their identity as members of a group without regard to their individual qualities.

State—Includes each of the 50 states, the Commonwealth of Puerto Rico, the Virgin Islands of the United States, Guam, American Samoa, the Commonwealth of the Northern Mariana Islands. References in this program to State, State government, or State agency are meant to include the Commonwealth of Puerto Rico, the Virgin Islands of the United States, Guam, American Samoa, the Commonwealth of the Northern Mariana Islands, and, as may be determined by the Secretary to be feasible, appropriate, and lawful, the Freely Associated States and the Federated States of Micronesia.

Technical assistance—An advisory service performed for the purpose of assisting cooperatives or groups that want to form cooperatives such as market research, product and/or service improvement, legal advice and assistance, feasibility study, business planning, marketing plan development, and training.

4. Application of Awards. The Agency will review, evaluate, and score applications received in response to this notice based on Section E of this notice. Awards under the SDGG program will be made on a competitive basis using specific selection criteria contained in Section E.1 of this notice. The Agency advises all interested parties that the applicant bears the full burden in preparing and applying in response to this notice.

B. Federal Award Information

Type of Award: Grants.

Fiscal Year Funds: FY 2023.

Available Funds: $3,000,000 will be available for FY 2023. RBCS may, at its discretion, increase the total level of funding available in this funding round [or in any category in this funding round] from any available source provided the awards meet the requirements of the statute which made the funding available to the Agency.

Award Amount: Maximum is $175,000.

Anticipated Award Date: September 30, 2023.

Performance Period: One (1) year.

Renewal or Supplemental Awards: None.

Type of Assistance Instrument: Financial Assistance Agreement.

C. Eligibility Information

1. Eligible Applicants. Grants may be made to individual cooperatives, groups of cooperatives, or cooperative development centers that serve socially disadvantaged groups and of which a majority of the board of directors or governing board of the applicant is comprised of individuals who are members of socially disadvantaged groups. Federally recognized Tribes have a government-to-government relationship with the United States. Therefore, Tribes may consider using a separate entity, such as a tribally owned business, tribal authority, tribal non-profit, tribal college, or university to apply for SDGG funding that would provide technical assistance to members of the Tribe. Applications submitted must include the following for eligibility determination:

(a) Required Documentation Applicants must verify their legal structure in the state or the Tribe under which the applicants are legally organized or incorporated.

(b) Applicants must demonstrate that all defined requirements for one of the three eligible applicant types have been met. These three eligible applicant types are: individual cooperatives, groups of cooperatives, or cooperative development centers.

An applicant is ineligible if:

(a) It is a public body or individual.

(b) It has been debarred or suspended or otherwise excluded from or ineligible for participation in Federal assistance programs under Executive Order 12549, “Debarment and Suspension.” The Agency will check the Do Not Pay (DNP) system to determine if the applicant has been debarred or suspended at the time of application and prior to funding any grant award.

(c) It has an outstanding judgment obtained by the U.S. in a Federal Court (other than U.S. Tax Court), is delinquent on the payment of Federal income taxes, or is delinquent on Federal debt. The applicant must certify as part of the application that there are no outstanding judgments against them. The applicant is responsible for resolving any issues that are reported in the `Do Not Pay' System and if issues are not resolved by the deadline found in this notice, the Agency may proceed to award funds to other eligible applicants.

(d) Any corporation or cooperative (i) that has been convicted of a felony criminal violation under any Federal law within the past 24 months or (ii) that has any unpaid Federal tax liability that has been assessed, for which all judicial and administrative remedies have been exhausted or have lapsed, and that is not being paid in a timely manner pursuant to an agreement with the authority responsible for collecting the tax liability, is not eligible for financial assistance provided with funds appropriated by the 2023 Appropriations Act, unless a Federal agency has considered suspension or debarment of the corporation and has made a determination that this further action is not necessary to protect the interests of the Government. Certification of compliance with this provision is now completed during registration or annual recertification in the System for Award Management (SAM) at SAM.gov via the Financial Assistance General Certifications and Representations.

2. Cost sharing or matching. There is no cost sharing or matching requirements associated with this grant.

3. Other eligibility requirements.

(a) Use of funds. Applications must propose technical assistance that will benefit -socially disadvantaged groups. Any recipient of technical assistance must have a membership that consists of a majority of members from socially disadvantaged groups. Please review Section D.6 of this notice carefully.

(b) Project eligibility. Proposed projects must only serve members of socially disadvantaged groups located in rural areas.

(c) Grant period eligibility. Applications must include a grant period of one-year or less or it will not be considered for funding. The proposed time frame should begin no earlier than October 1, 2023 and end no later than December 31, 2024. Applications that request funds for a time period ending after December 31, 2024, will not be considered for funding. Projects must be completed by December 31, 2024, or within 12 months of award funding, whichever is earlier.

The Agency may approve requests to extend the grant period for up to an additional 12 months at its discretion. However, applicants may not have more than one SDGG award during the same grant period. If you extend the period of performance for your current award, you may be deemed ineligible to receive an SDGG in the next grant cycle. Further guidance on grant period extensions will be provided in the award document.

(d) Satisfactory performance eligibility. If applicants have an existing SDGG award, current performance must be satisfactory to be considered eligible for a new SDGG award. Satisfactory performance includes being up to date on all financial and performance reports as prescribed in the grant award and being current on tasks and timeframes for utilizing grant and matching funds as approved in the work plan and budget. If applicants have any unspent grant funds on SDGG awards from projects prior to September 30, 2021, the application will not be considered for funding. If an applicant's FY 2022 award has unspent funds of 50 percent or more than what the approved work plan and budget projected at the time of evaluation of the FY 2022 application, the FY 2023 application may not be considered for funding. The Agency will verify the performance status of any FY 2022 awards and make a determination after the FY 2023 application period closes.

(e) Completeness eligibility. Applications must provide all the information requested in Section D.2 of this notice. Applications lacking sufficient information to determine eligibility and scoring criteria will be considered ineligible.

(f) Duplication of current services. Applications must demonstrate that services are being provided to new customers or new services to current customers. If the work plan and budget are duplicative of an existing award, the application will not be considered for funding. If the work plan and budget are duplicative of a previous or existing Rural Cooperative Development Grant (RCDG) and/or SDGG award, the application will not be considered for funding.

(g) Multiple grant eligibility. Applicants may submit only one SDGG grant application each funding cycle. If two (2) applications are submitted (regardless of the applicant's name) that include the same Executive Director and/or advisory boards or committees of an existing cooperative or cooperative development center, both applications will be determined ineligible for funding.

D. Application and Submission Information

1. Application template. An application template to assist applicants in applying for this funding opportunity is located at https://www.rd.usda.gov/programs-services/socially-disadvantaged-groups-grant. Use of the application template is strongly recommended to assist with the application process. Application information is also available at www.grants.gov. Applicants may also contact the USDA RD State Office for more information at https://www.rd.usda.gov/contact-us/state-offices.

2. Content and form of application submission. An application must contain all the required forms and proposal elements outlined below.

(a) Standard Form SF-424, “Application for Federal Assistance.” This form should include the applicant's Unique Entity Identifier (UEI) number. The UEI is assigned automatically to all active SAM.gov registered entities If an applicant does not include the UEI number in the application, it will not be considered for funding.

(b) Form SF-424A, “Budget Information-Non-Construction Programs.” This form must be completed and submitted as part of the application package. Applicants are no longer required to complete the Form SF 424B, “Assurances—Non-Construction Programs” as a part of the application. This information is now collected through the applicant registration or annual recertification in SAM.gov through the Financial Assistance General Certifications and Representations.

(c) Federal Debt and Judgement Certification. Applicants must certify that there are no current outstanding Federal judgments against the applicant's property and that no grant funds will be used to pay for any judgment obtained by the United States. Applicants must also certify that they are not delinquent on the payment of Federal income taxes, or any Federal debt. There is no standard form to complete, but to satisfy the certification requirement, applicants should include this statement in the application: “[INSERT NAME OF APPLICANT] certifies that the United States has not obtained an unsatisfied judgment against its property, is not delinquent on the payment of Federal income taxes, or any Federal debt, and will not use grant funds to pay any judgments obtained by the United States.” A separate signature is not required.

(d) Table of Contents. Applications must contain a detailed Table of Contents (TOC) that includes page numbers for each part of the application. Page numbers should begin immediately following the TOC.

(e) Executive Summary. A summary of the proposal, not to exceed one (1) page, must briefly describe the project, tasks to be completed, and other relevant information that provides a general overview of the project.

(f) Eligibility Discussion. A detailed discussion, not to exceed four (4) pages, must describe how the applicant will meet the following requirements:

(1) Applicant Eligibility. Applicants must describe how they meet the definition of a cooperative, group of cooperatives, or cooperative development center. Applications must also show that the individual cooperative, group of cooperatives or cooperative development center has a majority of its board of directors or governing board comprised of individuals who are members of socially disadvantaged groups, and that the applicant serves socially disadvantaged groups. The application must include a list of the board of directors/governing board and the percentage of board of directors/governing board that are members of socially disadvantaged groups. NOTE: Applications will not be considered for funding if it fails to show that a majority of the board of directors/governing board is comprised of individuals who are members of socially disadvantaged groups.

Applicants must verify their incorporation and status in the state that they have applied by providing the State or Tribe's Certificate of Good Standing and Articles of Incorporation. Bylaws may also be submitted if they provide additional information not included in the Articles of Incorporation that will help verify the applicant's legal status. If applying as an institution of higher education, documentation verifying legal status is not required; however, the applicant must demonstrate that they qualify as an Institution of Higher Education as defined at 20 U.S.C. 1001. Applicants can only apply as one (1) type of applicant. The requested verification documents should be included in Appendix A of the application. If the documents are not included, the application will not be considered for funding.

(2) Use of Funds. Applications must include a brief discussion on how the proposed project activities meet the definition of technical assistance and identify the socially disadvantaged groups that will be assisted.

(3) Project Area. Applications must provide specific information that details the location of the Project area and explain how the area meets the definition of “rural area.”

(4) Grant Period. Applications must include a time frame for the proposed project and discuss how the project will be completed within that time frame. See the performance period section above for more information.

(5) Indirect Costs. Applicants should indicate in the application if there is a negotiated indirect cost rate agreement (NICRA), and if so, the rate. The negotiated indirect cost rate approval does not need to be included in the application, but it will be required to be provided if a grant is awarded. Approval for indirect costs that are requested in an application without an approved indirect cost rate agreement is at the discretion of the Agency.

(g) Scoring Criteria. Each of the scoring criteria in Section E.1 in this notice must be addressed in narrative form, with a maximum of three (3) pages for each individual scoring criterion, unless otherwise specified. Failure to address each scoring criterion will result in the application being determined ineligible.

(h) Annual Performance Measures. The Agency has established annual performance evaluation measures to evaluate the SDGG program. The applicant must provide estimates on the following performance evaluation measures as part of the narrative:

(1) Number of cooperatives assisted; and

(2) Number of socially disadvantaged groups assisted.

3. System for Award Management and Unique Entity Identifier.

(a) At the time of application, applicants must have an active registration in the System for Award Management (SAM) before applying in accordance with 2 CFR part 25. To register in SAM, entities will be required to create a Unique Entity Identifier (UEI). Instructions for obtaining the UEI are available at https://sam.gov/content/entity-registration.

(b) Applicants must maintain an active SAM registration, with current, accurate and complete information, at all times during which it has an active Federal award or an application under consideration by a Federal awarding agency.

(c) Applicants must complete the Financial Assistance General Certifications and Representations in SAM.

(d) Applicants must provide a valid UEI in its application, unless determined exempt under 2 CFR 25.110.

(e) The Agency will not make an award until the applicant has complied with all SAM requirements including providing the UEI. If an applicant has not fully complied with the requirements by the time the Agency is ready to make an award, the Agency may determine that the applicant is not qualified to receive a Federal award and use that determination as a basis for making a Federal award to another applicant.

4. Submission Dates and Times.

(a) Application Technical Assistance Deadline Date. Prior to official submission of applications, applicants may request technical assistance or other application guidance from their State Office, if such requests are made prior to April 17, 2023. Agency contact information can be found in the ADDRESSES section of this notice.

(b) Application Deadline Date. Complete applications for grants must be submitted electronically no later than 4:30 p.m. local time on May 16, 2023, through https://www.grants.gov to be eligible for grant funding. Please review the Grants.gov website at https://www.grants.gov/web/grants/applicants/organization-registration.html for instructions on the process of registering your organization as soon as possible to ensure that you are able to meet the electronic application deadline.

Applications received after the deadline are not eligible for funding under this notice and will not be evaluated. The Agency will not solicit or consider new scoring or eligibility information that is submitted after the application deadline. RBCS also reserves the right to ask applicants for clarifying information and additional verification of assertions in the application.

5. Intergovernmental Review. Executive Order (E.O.) 12372, “Intergovernmental Review of Federal Programs,” applies to this program. This E.O. requires that Federal agencies provide opportunities for consultation on proposed assistance with State and local governments. Many states have established a Single Point of Contact (SPOC), please see the White House website: https://www.whitehouse.gov/omb/management/office-federal-financial-management/. If your State has a SPOC, you may submit a copy of the application directly for review. Any comments obtained through the SPOC must be provided to the USDA RD State Office for consideration as part of your application. If your state has not established a SPOC, you may submit your application directly to the Agency. Applications from Federally recognized Indian Tribes are not subject to this requirement.

6. Funding Restrictions. Grant funds must be used for technical assistance as defined.

(a) No funds made available under this notice shall be used to:

(1) Plan, repair, rehabilitate, acquire, or construct a building or facility, including a processing facility;

(2) Purchase, rent, or install fixed equipment, including processing equipment;

(3) Purchase vehicles, including boats;

(4) Pay for the preparation of the grant application;

(5) Pay expenses not directly related to the funded project;

(6) Fund political or lobbying activities;

(7) Fund any activities considered unallowable by the applicable grant cost principles, including 2 CFR part 200, subpart E and the Federal Acquisition Regulation as stated in 48 CFR chapter 1, subchapter E, part 31;

(8) Fund architectural or engineering design work for a specific physical facility;

(9) Fund any direct expenses to produce any commodity or product to which value will be added, including seed, rootstock, labor for harvesting the crop, and delivery of the commodity to a processing facility;

(10) Fund research and development;

(11) Purchase land;

(12) Duplicate current activities or activities paid for by other Federal grant programs;

(13) Pay costs of the project incurred prior to the date of grant approval;

(14) Pay for assistance to any private business enterprise that does not have at least fifty-one (51) percent ownership by those who are either citizens of the United States or reside in the United States after being legally admitted for permanent residence;

(15) Pay any judgment or debt owed to the United States;

(16) Pay any operating costs of the cooperative, group of cooperatives, or cooperative development center not directly related to the project;

(17) Pay expenses for applicant employee training or professional development not directly related to the project;

(18) Pay for any goods or services from a person or entity who has a conflict of interest with the grantee; or

(19) Pay for technical assistance provided to a cooperative that does not have a membership that consists of a majority of members from socially disadvantaged groups.

(b) Applications will not be considered for funding if it does any of the following:

(1) Requests more than the maximum grant amount;

(2) Proposes ineligible costs that equal more than ten (10) percent of total grant funds requested; or

(3) Proposes participant support costs that equal more than ten (10) percent of total grant funds requested.

(c) The Agency will consider an application for funding if it includes ineligible costs of ten (10) percent or less of total grant funds requested if it is determined eligible otherwise. However, if the application is successful, those ineligible costs must be removed and replaced with eligible costs before the Agency will make the grant award or the amount of the grant award will be reduced accordingly. If the Agency cannot determine the percentage of ineligible costs, the application will not be considered for funding.

(d) No assistance or funding from this grant can be provided to a hemp producer without a valid license issued from an approved State, Tribal or Federal plan in accordance with Subtitle G of the Agricultural Marketing Act of 1946, as amended (7 U.S.C. 1621 et seq.). Verification of valid hemp licenses will occur at the time of award. The purpose of this program is to provide technical assistance, so funding to produce hemp or marketing hemp production is not eligible.

7. Other Submission Requirements. Applications will not be accepted if the text is less than an 11-point font. Applications will not be accepted through mail or courier delivery, in-person delivery, email, or fax. Applications must be submitted electronically through www.grants.gov. A password is not required to access the website. Applicants can locate the Grants.gov downloadable application package for this program by using a keyword, the program name, Assistance Listing number, or the Funding Opportunity Number for this program.

The Grants.gov website provides information about applying electronically through the site, as well as the hours of operation. Users of Grants.gov must already have a UEI number and must also be registered and maintain registration in SAM. The UEI is assigned by SAM and replaces the formerly known Dun & Bradstreet D-U-N-S Number. The UEI number must be associated with the correct tax identification number of the SDGG applicant. 2 CFR part 25 requires registration in SAM. It is strongly recommended that applicants do not wait until the application deadline date to begin the application process through Grants.gov.

Applications must include electronic signatures. Original signatures may be required if funds are awarded. After applying electronically through Grants.gov, applicants will receive an automated acknowledgement from Grants.gov that contain a Grants.gov tracking number.

E. Application Review Information

1. Selection Criteria. All eligible and complete applications will be evaluated and scored based on the following selection criteria and weights. Evaluators will base scores only on the information provided or cross-referenced by page number in each individual evaluation criterion. SDGG is a competitive program, so applications will receive scores based on the quality of the responses. Simply addressing the criteria will not guarantee higher scores. The total points possible for the criteria are 105.

(a) Technical Assistance (maximum score of 25 points). Three-page limit. A panel of USDA employees will evaluate the applications to determine the ability to assess the needs of and provide effective technical assistance to socially disadvantaged groups. Applicants must discuss the:

(1) Needs of the socially disadvantaged groups to be assisted and explain how those needs were determined,

(2) Proposed technical assistance to be provided to the socially disadvantaged groups; and

(3) Expected outcomes of the proposed technical assistance, including how socially disadvantaged groups will benefit from participating in the project. Applicants will score higher on this criterion if examples of the entity's past projects that demonstrate successful outcomes in identifying specific needs and providing technical assistance to socially disadvantaged groups are provided.

(b) Work Plan/Budget (maximum of 25 points). Six-page limit. Work plans must provide specific and detailed descriptions of the tasks and the key project personnel that will accomplish the project's goals. The budget will be reviewed for completeness. Applicants must list what tasks are to be done, when the tasks will be done, who will do the tasks, and how much the tasks will cost. Reviewers must be able to understand what is being proposed and understand how all the grant funds will be spent. The budget must provide a detailed breakdown of estimated costs. These costs should be allocated to each of the tasks to be undertaken. (For example: Joe Smith has committed 20% of his time. Joe's salary is $60,000 × 20% = $12,000. Project requires travel within United States. From main office it is 150 miles at $.585/mile = $175.50 Round trip. Overnight trips motel with tax $189/night for 3 overnights = $567.00. Supplies include 2 boxes of paper @ $50 each = $100. etc.) A panel of USDA employees will evaluate the work plan for detailed actions and an accompanying timetable for implementing the proposal. Clear, logical, realistic, and efficient plans that allocate costs to specific tasks using applicable budget object class categories provided on the Form SF-424A will result in a higher score. At a minimum, the following must be discussed:

(1) Specific tasks to be completed using grant funds;

(2) How customers will be identified;

(3) Key personnel and what tasks they are undertaking; and

(4) The evaluation methods to be used to determine the success of specific tasks and overall project objectives. Please provide qualitative methods of evaluation. For example, evaluation methods should be measurable and go beyond quantitative measurements of completing surveys or number of evaluations. Examples include discussions of pre-test, post-test, and the evaluation of how task results will be measured.

(c) Experience (maximum score of 25 points). Three-page limit. A panel of USDA employees will evaluate the applicant's experience, commitment, and availability for identified staff or consultants in providing technical assistance, as defined in this notice. Applicants must describe the technical assistance experience for each identified staff member or consultant, as well as years of experience in providing that assistance. Applicants must discuss the commitment and the availability of identified staff, consultants, or other professionals to be hired for the project—especially those who may be consulting on multiple SDGG/RCDG projects. If staff or consultants have not been selected at the time of application, the applicants must provide specific descriptions of the qualifications required for the positions to be filled. In addition, resumes for each individual staff member or consultant must be included as an attachment in Appendix B of the application. The attachments will not count toward the maximum page total. The Agency will compare the described experience in this section and in the resumes to the work plan to determine relevance of the experience. Applications that do not include the attached resumes will not be considered for funding. Applications that demonstrate strong credentials, education, capabilities, experience, and availability of project personnel, that will contribute to a high likelihood of project success will receive more points than those that demonstrate less potential for success in these areas. Points will be awarded as follows:

(1) 0 points will be awarded if you do not substantively address the criterion.

(2) 1-9 points will be awarded if qualifications and experience of some, but not all, staff is addressed and, if necessary, qualifications of unfilled positions are not provided.

(3) 10-14 points will be awarded if (2) is met, plus all project personnel are identified but do not demonstrate qualifications or experience relevant to the project.

(4) 15-19 will be awarded if (2) and (3) are met, plus most, but not all, key personnel demonstrate strong credentials and/or experience, and availability indicating a reasonable likelihood of success.

(5) 20-25 points will be awarded if (2)-(4) are met, plus all personnel demonstrate strong, relevant credentials or experience and availability indicating a high likelihood of project success.

(d) Commitment (maximum of 10 points). Three-page limit. A panel of USDA employees will evaluate the applicant's commitment to providing technical assistance to socially disadvantaged groups in rural areas. Applicants must list the number and location of socially disadvantaged groups that will directly benefit from the assistance provided. Applicants must define and describe the underserved and economically distressed areas within the applicant's service area and provide current and relevant statistics that support the applicant's description of the service area. Projects located in Persistent Poverty Counties as defined in the 2023 Appropriations Act, if included, will score higher on this factor.

(e) Local support (maximum of 10 points). Three-page limit. A panel of USDA employees will evaluate applications for local support of the technical assistance activities. Discussion on local support should include previous and/or expected local support and plans for coordinating with other developmental organizations in the proposed service area or with Tribal, State, and local government institutions. Applications that demonstrate strong support from potential beneficiaries and other developmental organizations will score higher. A maximum of 10 letters of support may be included with the application. Points will be awarded as follows:

(1) 0 points are awarded if the applicant does not adequately address this criterion.

(2) A range of 1-5 points are awarded if the applicant demonstrates support from potential beneficiaries and other developmental organizations in the discussion but does not provide letters of support.

(3) Additional 1 point is awarded if 2 to 3 support letters are provided and show support from potential beneficiaries and/or support from local organizations.

(4) Additional 2 points are awarded if 4 to 5 support letters are provided and show support from potential beneficiaries and/or support from local organizations.

(5) Additional 3 points are awarded if 6 to 7 support letters are provided and show support from potential beneficiaries and/or support from local organizations.

(6) Additional 4 points are awarded if 8 to 9 support letters are provided and show support from potential beneficiaries and/or support from local organizations.

(7) Additional 5 points are awarded if 10 support letters are provided and show support from potential beneficiaries and/or support from local organizations.

Support letters should be signed and dated after the publication date of this notice and should come from potential beneficiaries and other local organizations. Letters received from Congressional members or technical assistance providers will not be included in the count of support letters received. Additionally, identical form letters signed by multiple potential beneficiaries and/or local organizations will not be included in the count of support letters received. Support letters should be included as an attachment to the application in Appendix C and will not count against the maximum page total. Additional letters from industry groups, commodity groups, Congressional members, and similar organizations should be referenced but not included in the application package. When referencing these letters, provide the name of the organization, the date of the letter, the nature of the support, and the name and title of the person signing the letter.

(f) Administrator Discretionary Points (maximum of 10 points). The Administrator may choose to award points to applications where:

(1) The applicant has never received a SDGG award—5 points; or

(2) The applicant seeks to advance one or more key priorities addressed in the SUPPLEMENTARY INFORMATION section of the Notice—5 points. Data sources for the key priorities are found at: https://www.rd.usda.gov/priority-points.

2. Federal Award Process. Applications will be reviewed in the USDA RD State Offices to determine if they are eligible for assistance based on requirements in this notice, and other applicable Federal regulations. If determined eligible, applications will be scored by a panel of USDA employees in accordance with the point allocation specified in this notice. The review panel will convene to reach a consensus on the scores for each of the eligible applications. The Administrator may choose to award up to 10 Administrator priority points based on criteria (f) in Section E.1 of this notice. These points will be added to the cumulative score for a total possible score of 105. Applications will be funded from highest ranking order until the funding limitation has been reached. Applications that cannot be fully funded may be offered partial funding at the Agency's discretion. The Agency reserves the right to offer the applicant less than the grant funding requested. Applications that are ranked and not funded will not be carried forward into the next competition.

F. Federal Award Administration Information

1. Federal Award Notices. Applicants selected for funding will receive a signed notice of Federal award by postal or electronic mail, containing instructions on requirements necessary to proceed with execution and performance of the award.

Applicants not selected for funding will be notified in writing via postal or electronic mail and informed of any review and appeal rights. Funding of successfully appealed applications will be limited to available FY 2023 funding.

2. Administrative and National Policy Requirements. Additional requirements that apply to grantees selected for this program can be found in 2 CFR parts 200, 400, 415, 417, 418, and 421. All recipients of Federal financial assistance are required to report information about first tier subawards and executive compensation in accordance with 2 CFR part 170, appendix A. Recipients will be required to have the necessary processes and systems in place to comply with the Federal Funding Accountability and Transparency Act reporting requirements of 2 CFR 170.200(b), unless they are exempt under 2 CFR 170.110(b).

The following additional requirements apply to grantees selected for this program:

(a) Execution of an Agency approved Grant Agreement.

(b) Acceptance of a written Letter of Conditions.

(c) Submission of Form RD 1940-1, “Request for Obligation of Funds.”

(d) Submission of Form RD 1942-46, “Letter of Intent to Meet Conditions.”

(e) Assurance Agreement. By signing the Financial Assistance General Certifications and Representations in SAM, grant recipients affirm that they will operate the program free from discrimination. The grant recipients will maintain the race and ethnic data on their board members and the beneficiaries of the program. The grant recipient will provide alternative forms of communication to persons with limited English proficiency. The Agency will conduct civil rights compliance reviews on grant recipients to identify the collection of racial and ethnic data on program beneficiaries. In addition, the compliance review will ensure that equal access to the program benefits and activities are provided for persons with disabilities and language barriers.

3. Reporting. After grant approval and through grant completion, applicants will be required to provide the following:

(a) An SF-425, “Federal Financial Report,” and a project performance report will be required on a semiannual basis (due 30 calendar days after the end of the semiannual period). The project performance reports shall include a comparison of actual accomplishments to the objectives established for that period;

(b) A statement providing reasons why established objectives were not met, if applicable;

(c) A statement providing reasons for any problems, delays, or adverse conditions, if any, which have affected or will affect attainment of overall project objectives, prevent meeting time schedules or objectives, or preclude the attainment of objectives during established time periods, and a description of the action taken or planned to resolve the situation;

(d) Objectives and timetable established for the next reporting period;

(e) A final project and financial status report within 90 days after the expiration or termination of the grant in accordance with 2 CFR 200.344; and

(f) Outcome project performance reports and final deliverables.

G. Agency Contacts

For general questions about this notice and for program technical assistance, please see the contact information in the ADDRESSES and FOR FURTHER INFORMATION CONTACT sections of this notice.

H. Other Information

1. Paperwork Reduction Act. In accordance with the Paperwork Reduction Act of 1995 (Pub. L. 104-13), the information collection requirements associated with the programs, as covered in this notice, have been approved by the Office of Management and Budget (OMB) under OMB Control Number 0570-0052.

2. National Environmental Policy Act. All recipients under this notice are subject to the requirements of 7 CFR part 1970. However, awards for technical assistance and training under this notice are classified as a Categorical Exclusion according to 7 CFR 1970.53(b), and usually do not require any additional documentation. RBCS will review each grant application to determine its compliance with 7 CFR part 1970. The applicant may be asked to provide additional information or documentation to assist RBCS with this determination.

3. Federal Funding Accountability and Transparency Act. All applicants, in accordance with 2 CFR part 25, must be registered in SAM and have a UEI number as stated in Section D.3 of this notice. All recipients of Federal financial assistance are required to report information about first-tier subawards and executive total compensation in accordance with 2 CFR part 170.

4. Civil Rights Compliance Requirements. All grants made under this notice are subject to Title VI of the Civil Rights Act of 1964 as required by the USDA in accordance with 7 CFR part 15, subpart A (eCFR :: 7 CFR part 15 Subpart A—Nondiscrimination in Federally-Assisted Programs of the Department of Agriculture—Effectuation of Title VI of the Civil Rights Act of 1964) and Section 504 of the Rehabilitation Act of 1973, Title VIII of the Civil Rights Act of 1968, Title IX, Executive Order 13166 (Limited English Proficiency), Executive Order 11246, and the Equal Credit Opportunity Act of 1974.

5. Nondiscrimination Statement. In accordance with Federal civil rights laws and USDA civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; the USDA TARGET Center at (202) 720-2600 (voice and TTY); or the 711 Relay Service.

To file a program discrimination complaint, a complainant should complete a Form AD-3027, USDA Program Discrimination Complaint Form, which can be obtained online at https://www.usda.gov/oascr, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

USDA is an equal opportunity provider, employer, and lender.

Karama Neal,
Administrator, Rural Business-Cooperative Service, Rural Development.

[FR Doc. 2023-05441 Filed 3-16-23; 8:45 am]

BILLING CODE 3410-XY-P